DEPARTMENT OF HOMELAND SECURITY

Coast Guard

[USCG-2007-27182]

Merchant Marine Personnel Advisory Committee

AGENCY: Coast Guard, DHS.

ACTION: Notice of meetings.

SUMMARY: The Merchant Marine Personnel Advisory Committee (MERPAC) and its working groups will meet to discuss various issues relating to the training and fitness of merchant marine personnel. MERPAC advises the Secretary of Homeland Security on matters relating to the training, qualifications, licensing, and certification of seamen serving in the U.S. merchant marine. All meetings will be open to the public.

DATES: A MERPAC working group will meet on Monday, March 12, 2007, from 8:30 a.m. to 4:30 p.m., and on Tuesday, March 13, 2007, from 8:30 a.m. to 4:30 p.m. The full MERPAC committee will meet on Wednesday, March 14, 2007, from 8:30 a.m. to 4:30 p.m. and on Thursday, March 15, 2007, from 8:30 a.m. to 4:30 p.m. These meetings may adjourn early if all business is finished. Requests to make oral presentations should reach the Coast Guard on or before March 1, 2007. Written material and requests to have a copy of your material distributed to each member of the committee or subcommittee should reach the Coast Guard on or before March 1, 2007.

ADDRESSES: The MERPAC working group will meet on March 12 and 13, 2007, at the North Pacific Fishing Vessel Owners' Association (NPFVOA) facility, located at 1900 W. Emerson Place, Suite 101, Seattle, WA 98119. Further information on the location of NPFVOA may be obtained by calling (206) 285-3383. The full MERPAC committee will meet on March 14 and 15, 2007, in the Washington Mutual Foundation Room, Level 4, of the Seattle Public Library, 1000 Fourth Avenue, Seattle, WA 98104. Attendees should use the 4th Avenue entrance of the library. Further directions regarding the location of the Seattle Public Library may be obtained at the following link: http://www.spl.org/default.asp?pageID=branch_central_directions&branchID=1.

Send written material and requests to make oral presentations to Mr. Mark Gould, Commandant (CG-3PSO-1), U.S. Coast Guard Headquarters, 2100 Second Street, SW., Washington, DC 20593-0001. This notice is available on the Internet at http://dms.dot.gov.

FOR FURTHER INFORMATION CONTACT: For questions on this notice, contact Mr. Gould, Assistant to the Executive Director, telephone 202-372-1409, fax 202-372-1926, or e-mail mark.c.gould@uscg.mil.

SUPPLEMENTARY INFORMATION: Notice of these meetings is given under the Federal Advisory Committee Act, 5 U.S.C. App. 2 (Pub. L. 92-463, 86 Stat. 770, as amended).

Agenda of Meetings on March 12-13, 2007

The working group for Task Statement 61, concerning merchant mariner medical waiver evaluation guidelines, will meet to conduct deliberations in preparation for delivering proposed MERPAC recommendations to the full committee.

Agenda of Meeting on March 14, 2007

The full committee will meet to discuss the objectives for the meeting. The working groups addressing the following task statements may meet to deliberate: Task Statement 30, concerning “Utilizing Military Sea Service for STCW Certifications”; Task Statement 51, concerning “Minimum Standard of Competence on Tanker Safety”; Task Statement 55, concerning “Recommendations to Develop a Voluntary Training Program for Deck and Engine Department Entry Level Mariners on Domestic and Seagoing Vessels”; Task Statement 58, concerning “Stakeholder Communications During MLD Program Restructuring and Centralization”; Task Statement 59, concerning “Access to Shore Leave by Merchant Mariners”; Task Statement 60, concerning “Recommendations on Sea Service Required to Obtain Propulsion Mode Credit at the Operational and Management Levels”; and Task Statement 61, concerning “Merchant Mariner Medical Waiver Evaluation Guidelines”. In addition, new working groups may be formed to address issues proposed by the Coast Guard, MERPAC members, or the public. All task statements may be viewed at the MERPAC Web site at http://www.uscg.mil/hq/g-m/advisory/merpac/merpac.htm.

At the end of the day, the working groups will make a report to the full committee on what has been accomplished in their meetings. No action will be taken on these reports on this date.

Agenda of Meeting on March 15, 2007

The agenda comprises the following:

(1) Introduction.

(2) Working Groups' Reports:

(a) Task Statement 30, concerning “Utilizing Military Sea Service for STCW Certifications”;

(b) Task Statement 51, concerning “Minimum Standard of Competence on Tanker Safety”;

(c) Task Statement 55, concerning “Recommendations to Develop a Voluntary Training Program for Deck and Engine Department Entry Level Mariners on Domestic and Seagoing Vessels”;

(d) Task Statement 58, concerning “Stakeholder Communications During MLD Program Restructuring and Centralization”;

(e) Task Statement 59, concerning “Access to Shore Leave by Merchant Mariners”;

(f) Task Statement 60, concerning “Recommendations on Sea Service Required to Obtain Propulsion Mode Credit at the Operational and Management Levels”;

(g) Task Statement 61, concerning “Merchant Mariner Medical Waiver Evaluation Guidelines”; and

(h) Other task statements which may have been adopted for discussion and action.

(3) Other items which may be discussed:

(a) Standing Committee—Prevention Through People.

(b) Briefings concerning on-going projects of interest to MERPAC.

(c) Other items brought up for discussion by the committee or the public.

Procedural

All meetings are open to the public. Please note that the meetings may adjourn early if all business is finished. At the Chair's discretion, members of the public may make oral presentations during the meetings. If you would like to make an oral presentation at a meeting, please notify Mr. Gould no later than March 1, 2007. Written material for distribution at a meeting should reach the Coast Guard no later than March 1, 2007. If you would like a copy of your material distributed to each member of the committee or subcommittee in advance of the meeting, please submit 25 copies to Mr. Gould no later than March 1, 2007.

Information on Services for Individuals With Disabilities

For information on facilities or services for individuals with disabilities or to request special assistance at the meetings, contact Mr. Gould as soon as possible.

Dated: February 7, 2007.
J.G. Lantz,
Director of National and International Standards, Assistant Commandant for Prevention-Operations.

[FR Doc. E7-2541 Filed 2-13-07; 8:45 am]

BILLING CODE 4910-15-P